DEPARTMENT OF THE INTERIOR

Fish and Wildlife Service

Proposed Information Collection; Hunting and Fishing Application and Report Forms for National Wildlife Refuges

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before June 23, 2008.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this IC, contact Hope Grey by mail, fax, or e-mail (see ADDRESSES) or by telephone at (703) 358-2482.

SUPPLEMENTARY INFORMATION:

I. Abstract

The National Wildlife Refuge System Administration Act of 1966 (16 U.S.C. 668dd-668ee), as amended, (Administration Act) and the Refuge Recreation Act of 1962 (16 U.S.C. 460k-460k-4) (Recreation Act) govern the administration and uses of national wildlife refuges and wetland management districts. The Administration Act consolidated all the different refuge areas into a single “Refuge System.” It also authorizes us to permit public uses on lands of the National Wildlife Refuge System and identifies six priority public uses on national wildlife refuges, including hunting and fishing. The Administration Act instructs us that these uses are “legitimate and appropriate general public use of the System, directly related to the mission of the System and the purposes of many refuges, and which generally fosters refuge management and through which the American public can develop an appreciation for fish and wildlife.”

The Administration Act also directs us to: ‘‘provide increased opportunities for families to experience compatible wildlife-dependent recreation, particularly opportunities for parents and their children to safely engage in traditional outdoor activities, such as fishing and hunting.”

The Recreation Act allows the use of refuges for public recreation when it is not inconsistent or does not interfere with the primary purpose(s) of the refuge.

There are 389 national wildlife refuges where we administer hunting and/or fishing programs. We only collect user information at about 20 percent of these refuges. Information that we plan to collect will help us to:

(1) Administer and monitor hunting and fishing programs on refuges.

(2) Distribute hunting and fishing permits in a fair and equitable manner to eligible participants.

We are proposing nine new application and report forms associated with hunting and fishing on refuges. We may not allow all opportunities on all refuges; therefore, we require different forms for each. Not all refuges will use each form and some refuges may collect the information in a nonform format.

We will use the following application forms when we assign areas, dates, and/or types of hunts via a drawing because of limited resources, high demand, or when a permit is needed to hunt. We will issue application forms for specific periods, usually seasonally or annually.

(1) FWS Form 3-2354 (Quota Deer Hunt Application).

(2) FWS Form 3-2355 (Waterfowl Lottery Application).

(3) FWS Form 3-2356 (Big Game Hunt Application).

(4) FWS Form 3-2357 (Migratory Bird Hunt Application).

(5) FWS Form 3-2358 (Fishing/Shrimping/Crabbing Application)

We plan to collect information on:

(1) Applicant (name, address, phone number) so that we can notify applicants of their selection.

(2) User preferences (dates, areas, method) so that we can distribute users equitably.

(3) Whether or not the applicant is applying for a special opportunity for disabled or youth hunters.

(4) Age of youth hunter(s) so that we can establish eligibility.

We will ask users to report on their success after their experience so that we can evaluate hunt quality and resource impacts. We will use the following activity reports, which we will distribute during appropriate seasons, as determined by State or Federal regulations.

(1) FWS Form 3-2359 (Big Game Harvest Report).

(2) FWS Form 3-2360 (Fishing Report).

(3) FWS Form 3-2361 (Migratory Bird Hunt Report).

(4) FWS Form 3-2362 (Upland Game Hunt Report).

We plan to collect information on:

(1) Names of users so we can differentiate between responses.

(2) City and State of residence so that we can better understand if users are local or traveling.

(3) Dates, time, and number in party so we can identify use trends to allocate staff and resources.

(4) Details of success by species so that we can evaluate quality of experience and resource impacts.

II. Data

OMB Control Number: None. This is a new collection.

Title: Hunting and Fishing Application Forms and Reports for National Wildlife Refuges

Service Form Number(s): 3-2354, 3-2355, 3-2356, 3-2357, 3-2358, 3-2359, 3-2360, 3-2361, and 3-2362.

Type of Request: New collection.

Affected Public: Individuals and households.

Respondent's Obligation: Required to obtain or retain a benefit.

Frequency of Collection: On occasion.

Activity | Number of annual respondents | Number of annual responses | Completion time per response | Annual burden hours
FWS Form 3-2354 (Quota Deer Hunt Application) | 175,000 | 175,000 | 30 minutes | 87,500
FWS Form 3-2355 (Waterfowl Lottery Application) | 90,000 | 90,000 | 30 minutes | 45,000
FWS Form 3-2356 (Big Game Hunt Application) | 2,500 | 2,500 | 30 minutes | 1,250
FWS Form 3-2357 (Migratory Bird Hunt Application) | 5,000 | 5,000 | 30 minutes | 2,500
FWS Form 3-2358 (Fishing/Shrimping/Crabbing Application) | 2,500 | 2,500 | 30 minutes | 1,250
FWS Form 3-2359 (Big Game Harvest Report) | 85,000 | 85,000 | 15 minutes | 21,250
FWS Form 3-2360 (Fishing Report) | 400,000 | 400,000 | 15 minutes | 100,000
FWS Form 3-2361 (Migratory Bird Hunt Report | 5,000 | 5,000 | 15 minutes | 1,250
FWS Form 3-2362 (Upland Game Hunt Report) | 50,000 | 50,000 | 15 minutes | 12,500
Totals | 815,000 | 815,000 |  | 261,250

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include and/or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: April 2, 2008.
Hope Grey,
Information Collection Clearance Officer, Fish and Wildlife Service.

FR Doc. E8-8674 Filed 4-21-08; 8:45 am

Billing Code 4310-55-S